NATIONAL SCIENCE FOUNDATION

Public Affairs Advisory Group; Notice of Meeting

In accordance with the Federal Advisory Committee Act (Pub. L. 92-463, as amended), the National Science foundation announces the following meeting:

Name: Public Affairs Advisory Group (5292).

Date/Time: September 26, 2000; 6:30 p.m.-9 p.m.

Place: Morrison-Clark Inn, 1015 L Street, N.W., Washington, D.C. 20001. Telephone: (202) 462-5143.

Type of Meeting: Open.

Contact Person: Mr. Michael Sieverts, Acting Director, Office of Legislative and Public Affairs, Room 1245, National Science Foundation, 4201 Wilson Boulevard, Arlington, VA 22230. (703) 292-5143.

Purpose of Meeting: To provide advice and recommendations concerning NSF science and engineering outreach activities.

Agenda: Review and discuss Draft Public Affairs Advisory Group issues and finalize recommendations for final report.

Meeting Minutes: May be obtained from the contact person listed above.

Dated: August 31, 2000.
Karen J. York,
Committee Management Officer.

[FR Doc. 00-22796 Filed 9-5-00; 8:45 am]

BILLING CODE 7555-01-M